DEPARTMENT OF STATE

[Public Notice 8849]

Culturally Significant Object Imported for Exhibition Determinations: “Heaven and Earth: Art of Byzantium From Greek Collections”

AGENCY: Department of State.

ACTION: Notice, correction.

SUMMARY: On August 7, 2013, notice was published on page 48216 of the Federal Register (volume 78, number 152) of the determinations made by the Department of State pertaining to the exhibition “Heaven and Earth: Art of Byzantium from Greek Collections.” The referenced notice is corrected here to include an additional object for the exhibition. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the additional object to be included in the exhibition “Heaven and Earth: Art of Byzantium from Greek Collections,” imported from abroad for temporary exhibition within the United States, is of cultural significance. I also determine that the exhibition or display of the additional object at the Art Institute of Chicago, Chicago, Illinois, from on or about September 27, 2014, until on or about February 15, 2015, is in the national interest. I have ordered that Public Notice of these Determinations be published in the Federal Register.

FOR FURTHER INFORMATION CONTACT: For further information, including a description of the additional object, contact Paul W. Manning, Attorney-Adviser, Office of the Legal Adviser, U.S. Department of State (telephone: 202-632-6469). The mailing address is U.S. Department of State, SA-5, L/PD, Fifth Floor (Suite 5H03), Washington, DC 20522-0505.

Dated: August 19, 2014.
Evan Ryan,
Assistant Secretary, Bureau of Educational and Cultural Affairs, Department of State.

[FR Doc. 2014-20322 Filed 8-25-14; 8:45 am]

BILLING CODE 4710-05-P